DEPARTMENT OF AGRICULTURE

Submission for OMB Review; Comment Request

July 13, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Federal and State Agreement.

OMB Control Number: 0584-0332.

Summary of Collection: The Women, Infants, and Children (WIC) and the Farmers' Market Nutrition Program (FMNP) are carried out by the U.S. Department of Agriculture under Section 17 of the Child Nutrition Act (CNA) of 1966, as amended. Form FNS-399, Federal-State Special Supplemental Nutrition Program Agreement, is the agreement between USDA and the State agency. The agreement empowers USDA to release funds to the State agency to operate the Women, Infants and Children (WIC) Program and the Farmers' Market Nutrition Program (FMNP).

Need and Use of the Information: FNS will collect information to authorize payment of cash grants to State agencies, which operate the program locally through nonprofit organizations and must ensure coordination of the Program among the appropriate agencies and organizations. Each FMNP or WIC State agency desiring to administer the program shall annually enter into a written agreement with USDA for administration of the program in the jurisdiction of the State agency. If the information is not collected Federal funds cannot be provided to the State agency without a signed agreement.

Description of Respondents: State, Local, or Tribal Government.

Number of Respondents: 107.

Frequency of Responses: Recordkeeping; Reporting: Annually.

Total Burden Hours: 27.

Ruth Brown,
Departmental Information Collection Clearance Officer.

[FR Doc. E6-11398 Filed 7-18-06; 8:45 am]

BILLING CODE 3410-30-P